DEPARTMENT OF LABOR

Office of Federal Contract Compliance Programs

41 CFR Part 60-1

RIN 1250-AA09

Implementing Legal Requirements Regarding the Equal Opportunity Clause's Religious Exemption

AGENCY: Office of Federal Contract Compliance Programs; Labor.

ACTION: Notice of proposed rulemaking; correction.

SUMMARY: On August 15, 2019, the Office of Federal Contract Compliance Programs (OFCCP) published a proposed rule to clarify the scope and application of the religious exemption contained in section 204(c) of Executive Order 11246, as amended. That document included incorrect information for the quantifiable costs that appear in Table 2. This document corrects Table 2 in the proposed rule.

DATES: August 22, 2019.

FOR FURTHER INFORMATION CONTACT: Harvey D. Fort, Acting Director, Division of Policy and Program Development, Office of Federal Contract Compliance Programs, 200 Constitution Avenue NW, Room C-3325, Washington, DC 20210. Telephone: (202) 693-0104 (voice) or (202) 693-1337 (TTY).

SUPPLEMENTARY INFORMATION: The following correction is made to the document that published in the Federal Register on August 15, 2019:

On page 41687, the first line of Table 2. Quantifiable Costs “First-Year Costs $24,197,500” is corrected to read “First-Year Costs $20,325,900”.

Craig E. Leen,
Director, OFCCP.

[FR Doc. 2019-18060 Filed 8-21-19; 8:45 am]

BILLING CODE 4510-45-P